DEPARTMENT OF THE INTERIOR

National Park Service

Notice of Intent to Issue a Temporary Concession Contract for Food and Beverage, Lodging, and Merchandise Services at Oregon Caves National Monument

SUMMARY: Pursuant to the National Park Service Concessions Management Improvement Act of 1998, notice is hereby given that the National Park Service intends to issue a temporary concession contract authorizing continued operation of food and beverage, overnight lodging and merchandise services to the public within Oregon Caves National Monument. The temporary concession contract will be for a term of not more than 1 year. This short-term concession contract is necessary to avoid interruption of visitor services while the National Park Service completes the solicitation and selection of a concessioner for a new long-term concession contract. This short-term contract will be for a one-seasonal operating period ending October 31, 2003. This notice is pursuant to 36 CFR part 51, section 51.24(a).

SUPPLEMENTARY INFORMATION: The previous concession contract at Oregon Caves National Monument expired on October 31, 2002. The operation is seasonal and operates primarily from mid-May through mid-September and provides visitors with lodging, food and beverage and merchandise services. The prospectus for Oregon Caves National Monument long-term concession contract was issued in February 2003 and the solicitation period will not be concluded until May of 2003. The review of proposals and selection of a concessioner will not be completed for another several months. The short-term concession contract is necessary to avoid the interruption of visitor services for the summer operating season of 2003 while the National Park Service conducts its solicitation and the evaluation of offers for the award of a new long-term concession contract.

Information about this notice can be sought from: National Park Service, Chief, Concession Program Management Office, Pacific West Region, Attn: Mr. Tony Sisto, 1111 Jackson Street, Suite 700, Oakland, California 94607 or call 510/817-1366.

Dated: May 1, 2003.
Richard G. Ring,
Associate Director, Administration, Business Practices and Workforce Development.

[FR Doc. 03-13331 Filed 5-28-03; 8:45 am]

BILLING CODE 4312-06-M